DEPARTMENT OF COMMERCE

Foreign-Trade Zones Board

[Docket 20-2005]

Proposed Foreign-Trade Zone, Fargo, North Dakota; Application and Pubic Hearing

An application has been submitted to the Foreign-Trade Zones Board (the Board) by the Municipal Airport Authority of the City of Fargo, North Dakota, to establish a general-purpose foreign-trade zone at sites in Fargo, North Dakota, within and adjacent to the Fargo, North Dakota, Customs port of entry. The application was submitted pursuant to the provisions of the FTZ Act, as amended, (19 U.S.C. 81a-81u), and the regulations of the Board (15 CFR part 400). It was formally filed on May 11, 2005. The applicant is authorized to make the proposal under Chapter 103, Section 83 of the North Dakota Century Code.

The proposed zone would consist of 6 sites covering 1,026 acres in the Fargo, North Dakota, area: Site 1—270 acres within the 1,546-acre Airport, Science and Technology Complex, Hector International Airport, 2801 32nd Avenue, Fargo; Site 2—392 acres within the 1,074-acre Midtown Industrial Complex, 3301 1st Avenue, Fargo; Site 3—222 acres within the 395-acre West Fargo Industrial Complex, 1262 Main Avenue, Fargo; Site 4—27 acres within the 31-acre Heartland Industrial Complex, 310 Industrial Boulevard, Casselton; Site 5 (100 acres)—Mapleton Industrial Complex, intersection of 164th Avenue Southeast and Karl Olson Street, Fargo; and, Site 6 (15 acres)—Swanson Industrial Complex, 4055 40th Avenue South, Fargo. The sites are owned by a number of public and private corporations.

The application indicates a need for zone services in the Fargo, North Dakota, area. Several firms have indicated an interest in using zone procedures for warehousing/distribution activities for such products as medical products, automotive components, and production equipment. Specific manufacturing requests are not being sought at this time. Requests would be made to the Board on a case-by-case basis.

In accordance with the Board's regulations, a member of the FTZ staff has been designated examiner to investigate the application and report to the Board.

As part of the investigation, the Commerce examiner will hold a public hearing on June 14, 2005, at 9:30 a.m., at the Fargo Municipal Airport Authority Board Room, 2801 32nd Avenue North, Fargo, North Dakota 58102.

Public comment on the application is invited from interested parties. Submissions (original and 3 copies) shall be addressed to the Board's Executive Secretary at one of the following locations:

1. Submissions via Express/Package Delivery Services: Foreign-Trade Zones Board, U.S. Department of Commerce, Franklin Court Building-Suite 4100W, 1099—14th Street, NW., Washington, DC 20005; or

2. Submissions via the U.S. Postal Service: Foreign-Trade Zones Board, U.S. Department of Commerce, FCB—Suite 4100W, 1401 Constitution Avenue NW., Washington, DC 20230.

The closing period for their receipt is July 19, 2005. Rebuttal comments in response to material submitted during the foregoing period may be submitted during the subsequent 15-day period (to August 3, 2005).

A copy of the application and accompanying exhibits will be available for public inspection at the Office of Foreign-Trade Zones Board's Executive Secretary at the first address listed above, and at the Hector Airport Passenger Terminal Administration Office, 2801 32nd Avenue North, Fargo, North Dakota 58102.

Dated: May 11, 2005.
Dennis Puccinelli,
Executive Secretary.

[FR Doc. 05-10028 Filed 5-19-05; 8:45 am]

BILLING CODE 3510-DS-P